ENVIRONMENTAL PROTECTION AGENCY

[EPA-HQ-OECA-2012-0503; FRL-9993-65-OMS]

Information Collection Request Submitted to OMB for Review and Approval; Comment Request; Emission Guidelines for Large Municipal Waste Combustors Constructed on or Before September 20, 1994 (Renewal)

AGENCY: Environmental Protection Agency (EPA).

ACTION: Notice.

SUMMARY: The Environmental Protection Agency (EPA) has submitted an information collection request (ICR), Emission Guidelines for Large Municipal Waste Combustors Constructed on or Before September 20, 1994 (EPA ICR Number 1847.08, OMB Control Number 2060-0390), to the Office of Management and Budget (OMB) for review and approval in accordance with the Paperwork Reduction Act. This is a proposed extension of the ICR, which is currently approved through May 31, 2019. Public comments were previously requested via the Federal Register on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before June 24, 2019.

ADDRESSES: Submit your comments, referencing Docket ID Number EPA-HQ-OECA-2012-0503, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW, Washington, DC. The telephone number for the Docket Center is 202-566-1744. For additional information about EPA's public docket, visit: http://www.epa.gov/dockets.

Abstract: The Emission Guidelines for Large Municipal Waste Combustors at 40 CFR part 60, subpart Cb were proposed on September 20, 1994, promulgated on December 19, 1995, and amended on August 25, 1997, and May 10, 2006. These regulations apply to existing facilities constructed on or before September 20, 1994 that own and operate municipal waste combustion (MWC) units with a combustion capacity greater than 250 tons per day of municipal solid waste (large MWC units). The reporting and recordkeeping requirements discussed below result from the emission guidelines that apply to large MWCs covered by EPA-approved and effective State plans and, where a State plan has not been approved, large MWCs covered by the Federal plan. This information is being collected to assure compliance with 40 CFR part 60, subpart Cb.

In general, all Emission Guidelines standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to Emission Guidelines.

Form Numbers: None.

Respondents/affected entities: Large municipal waste combustors.

Respondent's obligation to respond: Mandatory (40 CFR part 60, subpart Cb).

Estimated number of respondents: 77 (total).

Frequency of response: Initially, occasionally, semiannually and annually.

Total estimated burden: 394,000 hours (per year). Burden is defined at 5 CFR 1320.3(b).

Total estimated cost: $63,700,000 (per year), includes $1,530,000 annualized capital or operation & maintenance costs.

Changes in the estimates: There is a small adjustment decrease in the total estimated burden as currently identified in the OMB Inventory of Approved Burdens. This decrease in labor hours is not due to any program changes. Instead, the slight decrease is due to a decrease in the number of respondents, and several minor adjustments and updates to the calculations based on new information collected by the Agency. Two units were discovered to be affected by the Federal plan, instead of the State Plan, and thus decreased the burden for Designated State Administrators. In addition, several units were determined to be privately owned rather than publicly owned based on new data. There was a slight decrease in capital/startup and O&M costs because the number of units changed.

Courtney Kerwin,
Director, Regulatory Support Division.

[FR Doc. 2019-10885 Filed 5-23-19; 8:45 am]

BILLING CODE 6560-50-P